DEPARTMENT OF HOUSING AND URBAN DEVELOPMENT

[Docket No. FR-7005-N-15]

60-Day Notice of Proposed Information Collection: Home Equity Conversion Mortgage (HECM) Counseling Standardization and Roster

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 16, 2018.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: John Olmstead, Housing Program Specialist, Office of Housing Counseling, Office of Policy and Grant Administration, Department of Housing and Urban Development, 451 7th Street SW, Washington, DC 20410; email john.olmstead@hud.gov or telephone (802) 951-6290. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Application for Home Equity Conversion Mortgage (HECM) Counselor Roster and Certificate of HECM Counseling.

OMB Approval Number: 2502-0586.

Type of Request: Reinstatement, with change, of previously approved collection for which approval will expire. (OMB Expiration Date: August 31, 2018).

Form Numbers: HUD-92902 and HUD-92904.

Description of the need for the information and proposed use: The HECM Counselor examination and Roster application assists HUD in evaluating the knowledge and capacity of individuals interested in providing HECM counseling to potential HECM borrowers thereby reducing the risk to the insurance fund. The collection of information assists HUD in providing and maintaining a current roster of HUD-approved HECM counselors to the general public and interested customers. The transfer of the Certificate of HECM Counseling, form HUD 92900, from OMB Collection 2502-0524 to this collection is needed since the Office of Housing Counseling is responsible for all services offered by HUD-approved housing counselors which includes HECM Roster Counselors. OMB Collection 2502-0524 was recently approved by OMB and has an expiration date of March 31, 2021.

Respondents (i.e. affected public): State, Local or Tribal Government.

Estimated Number of Respondents: 1,055.

Estimated Number of Responses: 80,058.50.

Frequency of Response: HUD-92902—Certificate of HECM Counseling: Once HUD 92904—HECM Counseling Roster: 94.11.

Average Hours per Response: 2 hours.

Total Estimated Burden: 120,841.25.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: July 31, 2018.
Vance T. Morris,
Special Assistant to Assistant Secretary for Housing, Federal Housing Commissioner.

[FR Doc. 2018-17790 Filed 8-16-18; 8:45 am]

BILLING CODE 4210-67-P